NUCLEAR REGULATORY COMMISSION

10 CFR Part 63

Public Meetings on Issues Associated with the Licensing Process for a Possible High-Level Waste Repository at Yucca Mountain, Nevada

AGENCY: Nuclear Regulatory Commission.

ACTION: Notice of public meetings in Las Vegas, Nevada and Pahrump, Nevada.

SUMMARY: The U.S. Nuclear Regulatory Commission (NRC) staff will hold a series of public meetings on the high-level waste repository licensing process. The meetings are intended to foster a common understanding among the stakeholders on issues that would be associated with the licensing process, should the U.S. Department of Energy (DOE) submit a license application to the NRC for a possible geologic repository at Yucca Mountain, Nevada. All meetings will be facilitated by Francis X. Cameron, Special Counsel for Public Liaison, of the NRC Office of the General Counsel.

The first meeting in the series is an Information Workshop designed primarily for the professional staff of the affected interests. It is open to the public and will begin with an NRC overview of the licensing process, followed by NRC presentations on the role of information management and proceeding support, the role of the NRC technical staff in evaluating the DOE license application, and the NRC inspection process. Opportunities for questions and answers will be provided throughout the workshop. The time, date, and location of the Information Workshop is shown below.

The second meeting in the series is primarily to acquaint the public with the NRC's high-level waste licensing process. It will begin with an overview of the three topics addressed at the first meeting, followed by a question and answer period. In addition, members of the NRC staff will be available for informal discussion with members of the public. The time, date, and location of the Public Meeting is shown below. The NRC staff plans to hold a third meeting on the licensing process in Washington, DC later this year, and the time, date, and location of the meeting will be announced in the Federal Register.

TIME/DATE: The Information Workshop will be held on Thursday, May 4, 2000, from 8:00 a.m. to 12:00 noon (Pacific time).

PLACE: Clark County Government Center, Gold Room, 4th Floor, 500 South Grand Central Parkway, Las Vegas, Nevada 89155.

TIME/DATE: The Public Meeting will be held on Thursday, May 4, 2000, from 7:00 p.m. to 9:30 p.m (Pacific time).

PLACE: Mountain View Casino and Bowl, 1750 Pahrump Valley Boulevard, Pahrump, Nevada 89048.

FOR FURTHER INFORMATION CONTACT: Francis X. Cameron, Special Counsel for Public Liaison, Office of the General Counsel, U.S. Nuclear Regulatory Commission, Washington D.C. 20555-0001, or by telephone: (301) 415-1642 or e-mail: fxc@nrc.gov.

SUPPLEMENTARY INFORMATION: The NRC's proposed rule can be obtained from the NRC website (http://www.nrc.gov/NMSS/DWM/hlwreg.html), or by contacting Ms. Judy Goodwin at (301) 415-5870 or via e-mail at jcg@nrc.gov. Copies of the rule will also be available at the meetings.

Dated at Rockville, Maryland this 11th day of April, 2000.
For the Nuclear Regulatory Commission.
C. William Reamer,
Chief, High-Level Waste and Performance Assessment Branch, Division of Waste Management, Office of Nuclear Material Safety and Safeguards.

[FR Doc. 00-9464 Filed 4-14-00; 8:45 am]

BILLING CODE 7590-01-P